LEGAL SERVICES CORPORATION

Sunshine Act Meeting

SUMMARY: Notice is hereby given, pursuant to the provisions of the Government in the Sunshine Act, that the Operations and Regulations Committee (Committee) of the Board of Directors for the Legal Services Corporation (LSC) will hold its third and final Rulemaking Workshop (Workshop) to solicit public input on revisions to LSC's Cost Standards and Procedures and the Property Acquisition and Management Manual (PAMM).

DATE AND TIME: Wednesday, June 15, 2016, 1:30-4:30 p.m. EDT.

LOCATION: F. William McCalpin Conference Center, Legal Services Corporation Headquarters, 3333 K Street NW., 3rd Floor, Washington DC 20007.

PUBLIC OBSERVATION AND PARTICIPATION: LSC encourages observation of and participation in the Workshop by interested individuals and organizations. The Workshop will be entirely open to public observation and will include opportunities for individuals who are not members of the panel to participate in person or via telephone. Persons interested in speaking during the public comment period are encouraged to pre-register by submitting a request in writing prior to close of business on Monday, June 13, 2016, to Stefanie K. Davis, Assistant General Counsel, at sdavis@lsc.gov. Those who pre-register will be scheduled to speak first. LSC will transcribe the meeting and make the transcript available to members of the public who are unable to attend. Transcripts, rulemaking materials, and workshop updates (if any) will be available at http://www.lsc.gov/rulemaking-cost-standards-and-property-management-acquisition-and-disposal. Individuals who wish to listen and/or participate in the proceedings remotely may do so by following the telephone call-in directions provided below.

CALL-IN DIRECTIONS FOR PUBLIC OBSERVATION AND PARTICIPATION:

• Call toll-free number: 1-669-224-3412.

• When prompted, enter the following numeric pass code: 945-967-005.

• When connected to the call, please immediately “MUTE” your telephone.

Members of the public are asked to keep their telephones muted to eliminate background noises. To avoid disrupting the meeting, please refrain from placing the call on hold if doing so will trigger recorded music or other sound. The Workshop moderator will solicit public comment as provided in the following Workshop Agenda.

STATUS OF MEETING: Open.

MATTERS TO BE CONSIDERED:

1. Introductory remarks.

• Charles N.W. Keckler, Chair, Operations and Regulations Committee

2. Panelist introductions.

• AnnaMarie Johnson, Nevada Legal Services

• Michael Maher, Legal Action of Wisconsin

• Frank Bittner, California Rural Legal Assistance

• Jose Padilla, California Rural Legal Assistance

• Shamim Huq, Legal Aid Society of Northeastern New York

• Dilip Shah, Legal Aid of Northwest Texas

• Steve Ogilvie, Inland Counties Legal Services

• Robin Murphy, National Legal Aid and Defender Association

• Nikole Nelson, Alaska Legal Services

• Tracey Janssen, Alaska Legal Services

• Steve Pelletier, Northwest Justice Project

• Diana White, Legal Assistance Foundation of Metropolitan Chicago

3. Introductory discussion regarding each panelist's experience working with OMB's Uniform Guidance.

4. Discussion regarding LSC's proposal to incorporate minimum standards for procurement policies similar to those in the Uniform Guidance.

5. Discussion regarding LSC's proposal to incorporate Uniform Guidance cost principles.

6. Discussion regarding LSC's proposal to adopt the Uniform Guidance's property disposition principles.

7. Summary of Rulemaking Workshops and other comments.

8. Public comment.

9. Closing remarks.

• Charles N.W. Keckler, Chair, Operations and Regulations Committee

CONTACT PERSON FOR INFORMATION: Stefanie K. Davis, Assistant General Counsel, at (202) 295-1563. Questions may be sent by electronic mail to sdavis@lsc.gov.

ACCESSIBILITY: LSC complies with the Americans with Disabilities Act and Section 504 of the 1973 Rehabilitation Act. Upon request, meeting notices and materials will be made available in alternative formats to accommodate individuals with disabilities. Individuals who need other accommodations due to disability in order to attend the meeting in person or telephonically should contact Stefanie K. Davis, at (202) 295-1563 or sdavis@lsc.gov, at least 2 business days in advance of the meeting. If a request is made without advance notice, LSC will make every effort to accommodate the request but cannot guarantee that all requests can be fulfilled.

Dated: June 6, 2016.
Stefanie K. Davis,
Assistant General Counsel.

[FR Doc. 2016-13644 Filed 6-6-16; 11:15 am]

BILLING CODE 7050-01-P